DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provision involved, the nature of the relief being requested, and the petitioner's arguments in favor of relief.

Canadian Pacific Railway

[Docket Number FRA-2000-7927]

Canadian Pacific Railway Company (CPR), on behalf of itself, its Delaware and Hudson (D&H) subsidiary, and its Soo Line (Soo) subsidiary is seeking a waiver of compliance with the Railroad Locomotive Safety Standards, 49 CFR 229.71 (clearance above the rail).

CPR jointly with General Electric Transportation Systems is exploring methods for improving locomotive adhesion under heavy snow conditions. One method that appears to have some potential for consideration is the application of flexible wipers under the front pilot. These “snow flaps” are made of a corrugated urethane material similar to the non-metallic sand pipe tips currently allowed. These snow flaps extended below the 2½″ limit allowed by the section 229.71

CPR did limited testing of these snow flaps in Canada last year and is requesting additional exemption from Transport Canada to continue the testing this winter. There will be up to 40 GE locomotives equipped for this test. These units are principally dedicated to coal routes in British Columbia, but they are internationally equipped and may operate into the U.S. on an occasional basis. These units will enter the U.S. through the Minnesota gateway and over Soo Line as far as Chicago, Illinois.

CPR reported no evidence that these snow flaps will present any risk to safe train operations or to employees.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2000-7927) and must be submitted to the Docket Clerk, DOT Docket Management Facility, Room PL-401 (Plaza Level), 400 7th Street, SW., Washington, DC 20590. Communications received within 30 days of the date will be considered as far as practicable. All written communications concerning these proceedings are available for examination during regular business hours (9:00 a.m.-5:00 p.m.) at the above facility. All documents in the public docket are also available for inspection and copying on the Internet at the docket facility's web site http://dms.dot.gov.

Issued in Washington, D.C. on February 22, 2001.
Grady C. Cothen, Jr.,
Deputy Associate Administrator for Safety Standards and Program Development.

[FR Doc. 01-5406 Filed 3-5-01; 8:45 am]

BILLING CODE 4910-06-P